DEPARTMENT OF TRANSPORTATION

Federal Aviation Administration

14 CFR Part 39

[Docket No. FAA-2005-22073; Directorate Identifier 2005-NM-140-AD; Amendment 39-14219; AD 2005-16-13]

RIN 2120-AA64

Airworthiness Directives; Gulfstream Aerospace LP Model Galaxy and Gulfstream 200 Airplanes

AGENCY: Federal Aviation Administration (FAA), Department of Transportation (DOT).

ACTION: Final rule; request for comments.

SUMMARY: The FAA is adopting a new airworthiness directive (AD) for certain Gulfstream Aerospace LP Model Galaxy and Gulfstream 200 airplanes. This AD requires a one-time general visual inspection for any damaged wiring, splice, connector, and pins for the fuel standby feed pumps and replacement of any damaged wiring, splice, connector, or pin. This AD also requires replacement of the power and ground wires for the fuel standby feed pumps. This AD results from reports of evidence of overheating found on the feeder wires of the left and right fuel standby feed pumps. We are issuing this AD to detect and correct damaged wiring for the fuel standby feed pumps, which could result in an ignition source in an area where fuel vapor may be present, and a consequent fire or explosion.

DATES: Effective Date: August 30, 2005.

The Director of the Federal Register approved the incorporation by reference of a certain publication listed in the AD as of August 30, 2005.

We must receive comments on this AD by October 14, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Gulfstream Aerospace Corporation, P.O. Box 2206, Mail Station D-25, Savannah, Georgia 31402-2206, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

The Civil Aviation Administration of Israel (CAAI), which is the airworthiness authority for Israel, notified us that an unsafe condition may exist on certain Gulfstream Aerospace LP Model Galaxy and Gulfstream 200 airplanes. The CAAI advises that, while troubleshooting a fuel quantity indication condition on a Model Gulfstream 200 airplane, technicians found evidence of overheating on the feeder wires splice of the left fuel standby feed pump 3Q1. Subsequent investigation revealed a similar condition in the wiring of the left and right fuel standby feed pumps of four other Model Gulfstream 200 airplanes. This condition, if not corrected, could result in an ignition source in an area where fuel vapor may be present, and a consequent fire or explosion.

The subject fuel standby feed pump wiring on Model Galaxy airplanes is identical to that on the affected Model Gulfstream 200 airplanes. Therefore, both of these models may be subject to the same unsafe condition.

Relevant Service Information

Gulfstream Aerospace LP has issued Alert Service Bulletin 200-28A-261, dated June 7, 2005. The alert service bulletin describes procedures for performing a visual inspection of the wiring, splice, connector, and pins for the left (3Q1) and right (4Q1) fuel standby feed pumps for damage, and for replacing any damaged wiring, splice, connector, or pin with a new wire, splice, connector, or pin, as applicable. Damage includes evidence of overheating and worn or chafed insulation. The alert service bulletin also describes procedures for replacing the power and ground wires for the fuel standby feed pumps with 12-American-Wire-Gauge (AWG) wires. Accomplishing the actions specified in the service information is intended to adequately address the unsafe condition.

The CAAI mandated the alert service bulletin and issued Israeli airworthiness directive 28-05-06-08, dated July 3, 2005, to ensure the continued airworthiness of these airplanes in Israel.

FAA's Determination and Requirements of This AD

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. We have examined the CAAI's findings, evaluated all pertinent information, and determined that we need to issue an AD for products of this type design that are certificated for operation in the United States.

Therefore, we are issuing this AD to detect and correct any damaged wiring, splice, connector, or pin for the fuel standby feed pumps, which could result in an ignition source in an area where fuel vapor may be present, and a consequent fire or explosion. This AD requires accomplishing the actions specified in the service information described previously, except as discussed under “Differences Between the AD and Alert Service Bulletin”.

Clarification of Inspection in the Israeli Airworthiness Directive

The Israeli airworthiness directive states only to “inspect” the wiring; it does not define what type of inspection should be done. We have determined that the inspection in the Israeli airworthiness directive should be described as a “general visual inspection.” Note 1 has been included in this AD to define this type of inspection.

Differences Between the AD and Alert Service Bulletin

The Accomplishment Instructions of Gulfstream Alert Service Bulletin 200-28A-261, dated June 7, 2005, instruct operators to inspect the wiring for worn or chafed insulation; however, it gives no repair instructions if any worn or chafed insulation is found. This AD requires operators to replace any wiring found with worn or chafed insulation with new wiring. This difference has been coordinated with the CAAI.

The Accomplishment Instructions of Gulfstream Alert Service Bulletin 200-28A-261, dated June 7, 2005, instruct operators to complete and return a Service Reply Card to Gulfstream Aerospace LP. This AD does not include that requirement.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to the address listed under the ADDRESSES section. Include “Docket No. FAA-2005-22073; Directorate Identifier 2005-NM-140-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-13 Gulfstream Aerospace LP (Formerly Israel Aircraft Industries, Ltd.): Amendment 39-14219; Docket No. FAA-2005-22073; Directorate Identifier 2005-NM-140-AD.

Effective Date

(a) This AD becomes effective August 30, 2005.

Affected ADs

(b) None.

Applicability

(c) This AD applies to Gulfstream Model Galaxy and Gulfstream 200 airplanes, having serial numbers 004 through 113 inclusive, certificated in any category.

Unsafe Condition

(d) This AD results from reports of evidence of overheating found on the feeder wires of the left and right fuel standby feed pumps. We are issuing this AD to detect and correct any damaged wiring, splice, connector, or pin for the fuel standby feed pumps, which could result in an ignition source in an area where fuel vapor may be present, and a consequent fire or explosion.

Compliance

(e) You are responsible for having the actions required by this AD performed within the compliance times specified, unless the actions have already been done.

Service Bulletin Reference

(f) The term “alert service bulletin,” as used in this AD, means the Accomplishment Instructions of Gulfstream Alert Service Bulletin 200-28A-261, dated June 7, 2005. Although the alert service bulletin referenced in this AD specifies to submit information to the manufacturer, this AD does not include that requirement.

Inspection of the Wiring for the Fuel Standby Feed Pumps

(g) Within 25 flight hours after the effective date of this AD: Perform a general visual inspection to detect damage of the wiring, splice, connector, or pins of the left and right fuel standby feed pumps, in accordance with the alert service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(1) If no damage is found: No further work is required by this paragraph.

(2) If any damage is found: Before further flight, replace the damaged wiring (including wiring with worn or chafed insulation), splice, connector, or pin with a new wiring, splice, connector or pin, as applicable, in accordance with the alert service bulletin.

Power and Ground Wire Replacement

(h) Within 25 flight hours after the effective date of this AD: Replace the power and ground wires of the left and right fuel standby feed pumps with new, 12-American-Wire-Gauge (AWG) wires, in accordance with the alert service bulletin.

Alternative Methods of Compliance (AMOCs)

(i) The Manager, International Branch, ANM-116, Transport Airplane Directorate, FAA, has the authority to approve AMOCs for this AD, if requested in accordance with the procedures found in 14 CFR 39.19.

Related Information

(j) Israeli airworthiness directive 28-05-06-08, dated July 3, 2005, also addresses the subject of this AD.

Material Incorporated by Reference

(k) You must use Gulfstream Alert Service Bulletin 200-28A-261, dated June 7, 2005, to perform the actions that are required by this AD, unless the AD specifies otherwise. The Director of the Federal Register approved the incorporation by reference of this document in accordance with 5 U.S.C. 552(a) and 1 CFR part 51. Contact Gulfstream Aerospace Corporation, P.O. Box 2206, Mail Station D-25, Savannah, Georgia 31402-2206, for a copy of this service information. You may review copies at the Docket Management Facility, U.S. Department of Transportation, 400 Seventh Street SW., Room PL-401, Nassif Building, Washington, DC; on the Internet at http://dms.dot.gov; or at the National Archives and Records Administration (NARA).

For information on the availability of this material at the NARA, call (202) 741-6030, or go to http://www.archives.gov/ federal_register/ code_of_federal_regulations/ ibr_locations.html.

Issued in Renton, Washington, on August 4, 2005.
Kevin M. Mullin,
Acting Manager, Transport Airplane Directorate, Aircraft Certification Service.

[FR Doc. 05-16002 Filed 8-12-05; 8:45 am]

BILLING CODE 4910-13-P